DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 31, 2003.

Interested persons are invited to submit written comments regarding the subject matter of the investigations to the Director, Division of Trade Adjustment Assistance, at the address shown below, not later than March 31, 2003.

The petitions filed in this case are available for inspection at the Office of the Director, Division of Trade Adjustment Assistance, Employment and Training Administration, U.S. Department of Labor, Room C-5311, 200 Constitution Avenue, NW., Washington, DC 20210.

Signed at Washington, DC this 10th day of March 2003.
Edward A. Tomchick,
Director, Division of Trade Adjustment Assistance.

Appendix
[Petitions instituted between 02/19/2003 and 02/28/2003]
TA-W | Subject firm (petitioners) | Location | Date of institution | Date of petition
50,913 | Sony Electronics (Wkrs) | Mt. Pleasant, PA | 02/19/2003 | 02/03/2003
50,914 | Air Products and Chemicals (Wkrs) | Cumberland, RI | 02/19/2003 | 02/03/2003
50,915 | Techbooks (Wkrs) | York, PA | 02/19/2003 | 02/11/2003
50,916 | SAB Miller/Tumwater Brewery (IBT) | Tumwater, WA | 02/19/2003 | 02/18/2003
50,917 | Trout Creek Lumber (Wkrs) | Trout Creek, MT | 02/19/2003 | 02/18/2003
50,918 | Northfield Acquisition Company (MN) | Northfield, MN | 02/19/2003 | 02/13/2003
50,919 | Southern Farm Fish Processing (AR) | Eudora, AR | 02/19/2003 | 02/18/2003
50,920 | Thomson (IBEW) | Marion, IN | 02/19/2003 | 02/18/2003
50,921 | NVF (Wkrs) | Hartwell, GA | 02/19/2003 | 02/10/2003
50,922 | Premtec Inc. (Wkrs) | Gastonia, NC | 02/19/2003 | 01/20/2003
50,923 | Gretag (Wkrs) | Holyoke, MA | 02/19/2003 | 02/01/2003
50,924 | Shaw Alloy Piping Products, Inc. (Wkrs) | Shreveport, LA | 02/19/2003 | 02/14/2003
50,925 | Annette Island Packing Company (Wkrs) | Metlakatla, AK | 02/19/2003 | 02/11/2003
50,926 | Hartford Compressors, Inc. (Comp) | W. Hartford, CT | 02/19/2003 | 02/14/2003
50,927 | Southwire Specialty Products (Wkrs) | Osceola, AR | 02/19/2003 | 02/12/2003
50,928 | Preferred Fabricators, Inc. (Comp) | Helenwood, TN | 02/19/2003 | 02/11/2003
50,929 | S.D. Warren (Comp) | Skowhegan, ME | 02/19/2003 | 02/13/2003
50,930 | Land O' Lakes (MN) | Perham, MN | 02/19/2003 | 02/11/2003
50,931 | Meadwestvaco (PACE) | St. Joseph, MO | 02/19/2003 | 02/19/2003
50,932 | F/V Miss Synova (Comp) | Metlakatla, AK | 02/19/2003 | 02/18/2003
50,933 | F/V Marilynn (Comp) | Nikiski, AK | 02/19/2003 | 02/18/2003
50,934 | Shadowline, Inc. (Comp) | Morganton, NC | 02/24/2003 | 02/11/2003
50,935 | Coe Newnes/McGhee (Wkrs) | Ukiah, CA | 02/24/2003 | 02/07/2003
50,936 | International Mill Service (Wkrs) | Portland, OR | 02/24/2003 | 02/19/2003
50,937 | Gerber Plumbing Fixtures Corporation (GMP) | Kokomo, IN | 02/24/2003 | 02/12/2003
50,938 | Rexnord Industries (Comp) | Milwaukee, WI | 02/24/2003 | 02/21/2003
50,939 | J-Sports, Inc. (Comp) | Knoxville, TN | 02/24/2003 | 02/14/2003
50,940 | Olympic Security Services, Inc. (Comp) | Oklahoma City, OK | 02/24/2003 | 02/10/2003
50,941A | Harting, Inc. of North America (Co.) | Elgin, IL | 02/24/2003 | 02/14/2003
50,941 | Harting, Inc. (Comp) | Elgin, IL | 02/24/2003 | 02/14/2003
50,942 | SMC (Wkrs) | Chatsworth, CA | 02/24/2003 | 02/07/2003
50,943 | Tree Top, Inc. (IBT) | Selah, WA | 02/24/2003 | 02/13/2003
50,944 | Honeywell International (Wkrs) | Burbank, CA | 02/24/2003 | 02/07/2003
50,945 | Chem Fab (AR) | Hot Springs, AR | 02/24/2003 | 02/19/2003
50,946 | Sara Lee Intimate Apparel (Comp) | Statesville, NC | 02/25/2003 | 02/11/2003
50,947 | Kuhn Tool and Die Company (Comp) | Meadville, PA | 02/25/2003 | 01/31/2003
50,948 | Tordenskjold Marine Mobile (AL) | Daphne, AL | 02/25/2003 | 02/13/2003
50,949 | Caterpillar, Inc. (Comp) | Leland, NC | 02/25/2003 | 02/20/2003
50,950 | Birds Eye Foods, Inc. (EIU) | Green Bay, WI | 02/25/2003 | 02/21/2003
50,951 | General Electric Company (Wkrs) | Jonesboro, AR | 02/25/2003 | 02/21/2003
50,952 | Trinity Industries (Wkrs) | McKees Rocks, PA | 02/25/2003 | 02/07/2003
50,953 | Advanced Energy (Wkrs) | Voorhees, NJ | 02/25/2003 | 02/19/2003
50,954 | Eaton Corporation (Comp) | Norwood, NC | 02/25/2003 | 02/13/2003
50,955 | Specialized Bicycle Components (Comp) | Salt Lake, City, UT | 02/25/2003 | 02/20/2003
50,956 | Gerber/Woodbridge Sanitary Pottery Corp. (IBT) | Woodbridge, NJ | 02/25/2003 | 02/14/2003
50,957 | Compass Aerospace NW (Wkrs) | Shelton, WA | 02/25/2003 | 02/18/2003
50,958 | Fiberesin Industries (Comp) | Marinette, WI | 02/25/2003 | 02/19/2003
50,959 | Harper Brush Works (Comp) | Fairfield, IA | 02/25/2003 | 02/18/2003
50,960 | American Identity (Comp) | Marcus, IA | 02/25/2003 | 02/17/2003
50,961 | CSI Ltd, Inc. (Comp) | Burlington, IA | 02/25/2003 | 02/19/2003
50,962 | Sykes Enterprises, Inc. (MN) | Eveleth, MN | 02/25/2003 | 02/19/2003
50,963 | CF Gomma USA, Inc. (Comp) | Columbia City, IN | 02/25/2003 | 02/20/2003
50,964 | Oetiker, Inc. (Comp) | Marlette, MI | 02/25/2003 | 02/13/2003
50,965 | Cresecent Carboard Co., LLC (Comp) | Lee, MA | 02/25/2003 | 02/19/2003
50,966 | Acco Chain and Lifting Products (Wkrs) | Saltville, VA | 02/25/2003 | 02/24/2003
50,967 | CMI Northwest (Comp) | Portland, OR | 02/25/2003 | 02/15/2003
50,968 | Maintowoc Cranes () | Maintowoc, WI | 02/25/2003 | 02/21/2003
50,969 | Teradyne (Wkrs) | Westford, MA | 02/25/2003 | 02/11/2003
50,970 | On Semiconductor (Comp) | Phoenix, AZ | 02/25/2003 | 02/20/2003
50,971 | IMCO Recycling (Wkrs) | Post Falls, ID | 02/25/2003 | 02/14/2003
50,972 | Ontario Die Int. of Tennessee (Wkrs) | Lebanon, TN | 02/25/2003 | 02/11/2003
50,973 | Graftech International (Comp) | Clarksville, TN | 02/25/2003 | 02/24/2003
50,974 | Divine, Inc. (MA) | Burlington, MA | 02/25/2003 | 02/24/2003
50,975 | Pasco Tool and Plastics, Inc. (Comp) | Meadville, PA | 02/25/2003 | 02/24/2003
50,976 | Madeleine Manufactoring Co., Inc. (Comp) | Union, SC | 02/25/2003 | 02/15/2003
50,977 | Wabash Technologies (Comp) | Huntington, IN | 02/25/2003 | 02/14/2003
50,978 | Magnus Group, Inc. (The) (Comp) | Emigsville, PA | 02/25/2003 | 02/20/2003
50,979 | C-Cor.Net Corporation (Wkrs) | State College, PA | 02/25/2003 | 02/13/2003
50,980 | International Paper (Wkrs) | Natchez, MS | 02/26/2003 | 02/07/2003
50,981 | Southeastern Paper Products (Comp) | Miami, FL | 02/26/2003 | 02/07/2003
50,982 | Tarkett, Inc. (Wkrs) | Newburgh, NY | 02/26/2003 | 02/13/2003
50,983 | Advanced Machining, Inc. (Comp) | Newberg, OR | 02/26/2003 | 02/20/2003
50,984 | Micro Technology, Inc. (Comp) | Anaheim, CA | 02/26/2003 | 01/04/2003
50,985 | S.B. Foot Tanning Company (Comp) | Dumas, TX | 02/26/2003 | 02/11/2003
50,986 | F.L. Smithe Machine Company (IAMAW) | Duncanville, PA | 02/26/2003 | 02/11/2003
50,987 | Environmental Textiles (Wkrs) | Claremore, OK | 02/26/2003 | 02/25/2003
50,988 | Indiana Steel and Wire (Comp) | Muncie, IN | 02/26/2003 | 02/10/2003
50,989 | Sara Lee (BCTGM) | Eau Claire, WI | 02/26/2003 | 02/10/2003
50,990 | Material Handling Associates (Wkrs) | Greene, NY | 02/26/2003 | 02/18/2003
50,991 | Milliken (Wkrs) | Thomson, GA | 02/26/2003 | 02/18/2003
50,992 | Lonza Group (Comp) | Los Angeles, CA | 02/26/2003 | 02/04/2003
50,993 | F/V Darcie Michelle (Comp) | Dillingham, AK | 02/26/2003 | 02/19/2003
50,994 | William O. Olsen, Sr. (Comp) | Clarks Point, AK | 02/26/2003 | 02/18/2003
50,995 | F/V Kira (Comp) | South Naknek, AK | 02/26/2003 | 02/24/2003
50,996 | F/V Netta (Comp) | S. Naknek, AK | 02/26/2003 | 02/24/2003
50,997 | Dale Blatchford (Comp) | S. Naknek, AK | 02/26/2003 | 02/24/2003
50,998 | Anishia Elbie (Comp) | S. Naknek, AK | 02/26/2003 | 02/24/2003
50,999 | F/V 7, Zs (Comp) | S. Naknek, AK | 02/26/2003 | 02/24/2003
51,000 | John Savo (Comp) | Naknek, AK | 02/26/2003 | 02/24/2003
51,001 | Egain Communications, Inc. (CA) | Novato, CA | 02/27/2003 | 02/18/2003
51,002 | Ansell Healthcare (Comp) | Wilkesboro, NC | 02/27/2003 | 02/26/2003
51,003 | Plexus Corporation (Comp) | Poway, CA | 02/27/2003 | 01/02/2003
51,004 | Fiber-Line, Inc. (Wkrs) | Hickory, NC | 02/27/2003 | 02/17/2003
51,005 | Louisiana Pacific Corporation (Wkrs) | Missoula, MT | 02/27/2003 | 02/20/2003
51,006 | Forecaster of Boston (Comp) | Fall River, MA | 02/27/2003 | 02/05/2003
51,007 | Cedar Creek Fibers, LLC (Wkrs) | Fayetteville, NC | 02/27/2003 | 02/22/2003
51,008 | IBM Corporation (Wkrs) | Beaverton, OR | 02/27/2003 | 02/24/2003
51,009 | Vermont American Corporation (Wkrs) | Louisville, KY | 02/27/2003 | 02/24/2003
51,010 | Ethan Allen, Inc. (Comp) | Mayville, NY | 02/27/2003 | 02/25/2003
51,011 | Ivy Steel and Wire (USWA) | Baltimore, MD | 02/27/2003 | 02/20/2003
51,012 | Convergys (Wkrs) | Cincinnati, OH | 02/27/2003 | 02/20/2003
51,013 | Data-Ray (Comp) | Westminster, CO | 02/27/2003 | 02/26/2003
51,014 | Ingersoll-Rand Company (Comp) | Campbellsville, KY | 02/27/2003 | 02/26/2003
51,015 | F/V Sis Vera—Bristol Bay (Comp) | Dillingham, AK | 02/27/2003 | 02/26/2003
51,016 | F/V Helen Marg—Bristol Bay (Comp) | Dillingham, AK | 02/27/2003 | 02/26/2003
51,017 | F/V Marilyn Marie—Bristol Bay (Comp) | Dillingham, AK | 02/27/2003 | 02/26/2003
51,018 | Ametek (Comp) | Grand Junction, CO | 02/28/2003 | 02/20/2003
51,019 | Ametek (Comp) | West Chicago, IL | 02/28/2003 | 02/27/2003
51,020 | Shalmet Corporation (Comp) | Orwigsburg, PA | 02/28/2003 | 02/26/2003
51,021 | Advanced Materials Technology, Inc. (Wkrs) | Tempe, AZ | 02/28/2003 | 02/26/2003
51,022 | Fellowes, Inc. (Comp) | Itasca, IL | 02/28/2003 | 02/21/2003
51,023 | National Steel Corporation (Comp) | Mishawaka, IN | 02/28/2003 | 02/26/2003
51,024 | Whelling-Pittsburgh Steel Corporation (Comp) | Wheeling, WV | 02/28/2003 | 02/14/2003
51,025 | Zyquest, Inc. (Wkrs) | De Pete, WI | 02/28/2003 | 02/21/2003

[FR Doc. 03-6570 Filed 3-18-03; 8:45 am]

BILLING CODE 4510-30-M